DEPARTMENT OF ENERGY

Federal Energy Regulatory Commission

[Docket No. EC05-91-000, et al.]

Elmwood Energy LLC, et al.; Electric Rate and Corporate Filings

June 6, 2005.

The following filings have been made with the Commission. The filings are listed in ascending order within each docket classification.

1. Elmwood Energy LLC, Prime Power Sales I, LLC, GS Prime Direct Holdings LLC

[Docket No. EC05-91-000]

Take notice that on June 1, 2005, Prime Power Sales I, LLC (PPSI), Elmwood Energy LLC (Elmwood), and GS Prime Direct Holdings, LLC (GS Holdings) (collectively Applicants) filed with the Commission an application pursuant to section 203 of the Federal Power Act for authorization of a disposition of jurisdictional facilities whereby Elmwood will transfer all of its ownership interests in PPSI to GS Holdings. Applicants request confidential treatment of Exhibit B and Exhibit I, pursuant to 18 CFR 388.112 of the Commission's regulations.

Comment Date: 5 p.m. on June 23, 2005.

2. POSDEF Power Company, L.P.

[Docket No. EG04-25-000]

Take notice that on June 2, 2005, POSDEF Power Company, L.P., (Acme POSDEF) with its principal business address at 700 Universe Blvd., Juno Beach, Florida, 33408 filed with the Federal Energy Regulatory Commission a change in status of its ownership.

Acme POSDEF states that the notice of this filing has been sent to the Securities and Exchange Commission, the Florida Public Service Commission and the California Public Utilities Commission.

Comment Date: 5 p.m. on June 23, 2005.

3. American Electric Power Service Corporation, on behalf of: Appalachian Power Company, Columbus Southern Power Company, Indiana Michigan Power Company, Kentucky Power Company, Kingsport Power Company, Ohio Power Company, Wheeling Power Company, Collectively, the “AEP Companies”; Commonwealth Edison Company and Commonwealth Edison Company of Indiana, Inc. and The Dayton Power and Light Company

[Docket No. EL05-74-001]

Take notice that on May 27, 2005, American Electric Power Service Corporation, Commonwealth Edison Company and Commonwealth Edison Company of Indiana, Inc., and Dayton Power and Light Company (collectively, Companies) filed with the Commission a compliance filing including revisions to Schedule 13 of the PJM Interconnection, L.L.C. Open Access Transmission Tariff in compliance with the Commission's May 6, 2005 order in Docket No. EL05-74-000. American Electric Power Service Corporation, et al., 111 FERC ¶ 61,180 (2005). Consistent with the May 6 Order, the revised Schedule 13 would be effective as of May 1, 2005.

Comment Date: 5 p.m. Eastern Time on June 27, 2005.

4. Southwest Power Pool, Inc.

[ER05-652-003]

Take notice that on May 27, 2005, Southwest Power Pool, Inc. (SPP) submitted an amendment to its February 28, 2005 filing of its open access transmission tariff to implement a regional transmission cost allocation proposal with regard to new transmission upgrades. SPP states that the February 28 filing was approved by the Commission, subject to certain modifications, on April 22, 2005 Order. SPP requests an effective date of May 5, 2005.

SPP states that it has served a copy of this filing on each of its Members and Customers, as well as on all participants to this proceeding and all affected state commissions.

Comment Date: 5 p.m. on June 17, 2005.

5. Harvard Dedicated Energy Limited

[Docket No. ER05-658-001]

Take notice that on May 31, 2005, Harvard Dedicated Energy Limited (Harvard) submitted a compliance filing pursuant to the Commission's order issued April 20, 2005 in Docket No. ER05-658-000, to incorporate the change of status reporting requirement adopted by the Commission in Order No. 652, Reporting Requirement for Changes in Status for Public Utilities with Market-Based Rate Authority, 110 FERC ¶ 61,097 (2005).

Comment Date: 5 p.m. on June 21, 2005.

6. Entergy Services, Inc.

[Docket No. ER05-1065-000]

Take notice that on May 27, 2005, Entergy Services, Inc. (Entergy) pursuant to section 205 of the Federal Power Act, 16 U.S.C. 824, and section 35 of the regulations of the Commission, 18 CFR 35.13 (2004), Entergy Services, Inc., acting as agent for the Entergy Operating Companies, submits for filing proposed revisions to Entergy's Open Access Transmission Tariff, FERC Electric Tariff Second Revised Volume No. 3. Entergy states that the purpose of this filing is to establish an Independent Coordinator of Transmission for the Entergy transmission system (ICT).

Comment Date: 5 p.m. on June 17, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3018 Filed 6-10-05; 8:45 am]

BILLING CODE 6717-01-P